LIBRARY OF CONGRESS

U.S. Copyright Office

37 CFR Part 201

[Docket No. 2014-07]

Notice of Public Hearings: Exemption to Prohibition on Circumvention of Copyright Protection Systems for Access Control Technologies

AGENCY: U.S. Copyright Office, Library of Congress.

ACTION: Notice of public hearings.

SUMMARY: The United States Copyright Office will be holding public hearings as part of the sixth triennial rulemaking proceeding under the Digital Millennium Copyright Act (“DMCA”) concerning possible exemptions to the DMCA's prohibition against circumvention of technological measures that control access to copyrighted works. The public hearings will be held in May 2014 in Los Angeles, California and Washington, DC. Parties interested in testifying at the public hearings are invited to submit requests to testify pursuant to the instructions set forth below.

DATES: The public hearings in Los Angeles are scheduled for May 19, 20 and 21, 2015, on each day from 9:00 a.m. to 5:00 p.m. The public hearings in Washington, DC are scheduled for May 26, 27, 28 and 29, 2015, on each day from 9:00 a.m. to 5:00 p.m. Requests to testify must be received by Monday, April 20, 2015. Once the schedule of hearing witnesses is finalized, the Office will notify all participants and post the times and dates of the hearings at http://www.copyright.gov/1201/.

ADDRESSES: The Los Angeles hearings will be held in Room 1314 of the UCLA School of Law, 385 Charles E. Young Drive East, Los Angeles, CA 90095. The Washington, DC hearings will be held in the Mumford Room of the James Madison Building of the Library of Congress, 101 Independence Ave. SE., Washington, DC 20540. Requests to testify should be submitted through the request form available at http://www.copyright.gov/1201/hearing-request/. Any person who is unable to send a request via the Web site should contact the Office using the contact information below to make an alternative arrangement for submission of a request to testify. The SUPPLEMENTARY INFORMATION section below includes additional instructions on submitting requests to testify.

FOR FURTHER INFORMATION CONTACT: Sarang V. Damle, Deputy General Counsel, at sdam@loc.gov or by telephone at 202-707-8350; or Stephen Ruwe, Assistant General Counsel, by email at sruwe@loc.gov or by telephone at 202-707-8350.

SUPPLEMENTARY INFORMATION: On September 17, 2014, the Copyright Office published a Notice of Inquiry in the Federal Register to initiate the sixth triennial rulemaking proceeding under 17 U.S.C. 1201(a)(1), which provides that the Librarian of Congress, upon recommendation of the Register of Copyrights, may exempt certain classes of copyrighted works from the prohibition against circumventing a technological measure that controls access to a copyrighted work. 79 FR 55687 (Sept. 17, 2014). On December 14, 2014, the Office published a Notice of Proposed Rulemaking setting forth proposed exemptions for twenty-seven classes of works and requesting responsive comments. 79 FR 73857 (Dec. 14, 2014). The responsive comments received thus far have been posted on the Office's Web site. See http://www.copyright.gov/1201/.

At this time, the Office is announcing public hearings to be held in Los Angeles and Washington, DC to further consider the exemptions. The Office plans to convene panels of witnesses for the proposals to be considered, and may combine certain panels if the witnesses and/or key issues substantially overlap. The Office will schedule panels for particular exemptions in either Los Angeles or Washington, DC unless compelling circumstances require that a proposed class be considered in both cities. Limiting the discussion of each proposed class to one city or another will better ensure that witnesses can respond to the points made by others and avoid duplicative discussion. If no request to testify is received for a proposed exemption, the Office will consider the class based on the written submissions.

Submitting requests to testify: A request to testify should be submitted to the Copyright Office using the form on the Office's Web site indicated in the ADDRESSES section above. Anyone wishing to testify with respect to more than one proposed class must submit a separate form for each request. If multiple people from the same organization wish to testify on different panels, each should submit a separate request for each panel. If multiple people from the same organization wish to testify on the same panel, each should submit a request for that panel, and explain the need for multiple witnesses in the comment field of the request form.

Depending upon the number and nature of the requests to testify, and in light of the limited time and space available for the public hearings, the Office may not be able to accommodate all requests to testify. The Office will give preference to those who have submitted substantive evidentiary submissions in support of or opposition to a proposal. To the extent feasible, the Office encourages parties with similar interests to select a common representative to testify on their behalf.

All requests to testify must clearly identify:

• The name of the person desiring to serve as a witness.

• The organization or organizations represented, if any.

• Contact information (address, telephone, and email).

• The proposed class about which the person wishes to testify.

• A two- to three-sentence explanation of the testimony the witness expects to present.

• If the party is requesting the ability to demonstrate a use or a technology at the hearing, a description of the demonstration, including whether it will be prepared in advance or presented live, the approximate time required for such demonstration, and any presentation equipment that the person desires to use and/or bring to the hearing.

• The city in which the person prefers to testify (Los Angeles or Washington, DC). The Office will try to take this preference into account in scheduling the hearings, but cannot guarantee that the relevant panel will be convened in the preferred city. Participants who are unable to testify in a particular city or on a particular date should so indicate in the comment field of the request form.

To facilitate the process of scheduling panels, it is essential that all of the required information listed above be included in a request to testify.

Following receipt of the requests to testify, the Office will prepare agendas for the hearings listing the panels and witnesses, which will be circulated to hearing participants and posted at http://www.copyright.gov/1201/. Although the Office currently anticipates three days of hearings in Los Angeles and four days of hearings in Washington, DC, the Office may adjust this schedule depending upon the number and nature of requests to testify.

Format of public hearings: There will be time limits for each panel, which will be established after receiving all requests to testify. The Copyright Office plans to allot approximately one to two hours for each proposed class.

Witnesses should expect the Office to have carefully studied all written comments, and the Office will expect witnesses to have done the same with respect to the classes for which they will be presenting. Witnesses will be given an opportunity to provide a brief (three- to five-minute) overview of their position at the outset of the panel. After that, the hearings will focus on legal or factual issues that are unclear or underdeveloped in the written record, as identified by the Office, as well as demonstrative evidence.

The Office stresses that factual information is critical to the rulemaking process, and encourages witnesses to provide real-world examples to support their arguments. In some cases, the best way to do this may be to provide a demonstration of a claimed noninfringing use or the technologies pertinent to a proposal. As noted above, a person wishing to make such a demonstration must include a request to do so with his or her request to testify, using the appropriate space on the form described above. To ensure proper documentation of the hearings, the Office will require that a copy of any audio, visual, or audiovisual materials that have been prepared in advance (e.g., slideshows and videos) be provided to the Office at the hearing. Live demonstrations will be recorded by a videographer provided by the Office. The Office may contact witnesses individually ahead of time to ensure that demonstrations can be preserved for the record in an appropriate form.

In addition to videography equipment, the Office expects to have a PC, projector, and screen in the hearing room to accommodate demonstrations. Beyond this equipment, witnesses are responsible for supplying and operating any other equipment needed for their demonstrations. Persons planning to bring additional electronic or audiovisual equipment must notify the Office at least five days in advance of their scheduled hearing date by emailing Stephen Ruwe, Assistant General Counsel, at sruwe@loc.gov.

All hearings will be open to the public, but seating will be limited and will be provided on a first-come, first-serve basis. Witnesses and persons accompanying witnesses will be given priority in seating.

Dated: April 7, 2015.
Jacqueline C. Charlesworth,
General Counsel and Associate Register of Copyrights.

[FR Doc. 2015-08255 Filed 4-9-15; 8:45 am]

BILLING CODE P